Proclamation 9965 of November 8, 2019

World Freedom Day, 2019

By the President of the United States of America

A Proclamation

Thirty years ago, the people of East and West Berlin came together to tear down a symbol of totalitarianism. For more than 10,000 days, the Berlin Wall stood as a troubling reminder of a deeply divided world, an evil obstacle to freedom and individual liberty. When the wall finally came down, it marked a triumphant defeat of communism, a monumental victory for democratic principles, and a righteous end to the nearly five-decades-long Cold War. On World Freedom Day, we remember those who suffered as they longed for freedom behind the Iron Curtain, and we recognize those relentlessly fighting today to break free from the shackles of oppression.

Any system of government that impedes the God-given rights of the people is destined to fail because the flame of liberty cannot be extinguished. As President Ronald Reagan said at the Brandenburg Gate in West Berlin, “The totalitarian world produces backwardness because it does such violence to the spirit, thwarting the human impulse to create, to enjoy, to worship.” On that fateful day in 1989, we saw—with every falling piece of rubble—that the human impulse for freedom cannot long be suppressed. Regimes that attempt to stop the free flow of ideas, the right of a people to choose their own government, and the blessings of free enterprise will inevitably suffer the same fate as the Berlin Wall.

While authoritarian powers seek to collapse the progress and alliances that have developed in the three decades since the fall of the Berlin Wall, the United States stands firm in our commitment to uphold the democratic values at the bedrock of every free society. Today, our Nation works in tandem with our allies and partners to safeguard the precious freedoms that fuel prosperity and ensure stability around the globe. Bad actors will continually try to weaken our cause and sow discord, but democratic bonds will always prevail.

This World Freedom Day, we pay tribute to the heroes who helped liberate Eastern and Central Europe from communist oppression, securing liberty for millions. We also reaffirm our support of those everywhere who pursue the noble cause of freedom.

NOW, THEREFORE, I, DONALD J. TRUMP, President of the United States of America, by virtue of the authority vested in me by the Constitution and the laws of the United States, do hereby proclaim November 9, 2019, as World Freedom Day. I call upon the people of the United States to observe this day with appropriate ceremonies and activities, reaffirming our dedication to freedom and democracy.

IN WITNESS WHEREOF, I have hereunto set my hand this eighth day of November, in the year of our Lord two thousand nineteen, and of the Independence of the United States of America the two hundred and forty-fourth.

[FR Doc. 2019-24876

Filed 11-13-19; 11:15 am]

Billing code 3295-F0-P